DEPARTMENT OF ENERGY

Federal Energy Regulatory Commission

Combined Notice of Filings

Take notice that the Commission has received the following Natural Gas Pipeline Rate and Refund Report filings:

Filings Instituting Proceedings

Docket Number: PR14-55-000.

Applicants: Arkansas Oklahoma Gas Corporation.

Description: Annual Report for 2018 of Arkansas Oklahoma Gas Corporation.

Filed Date: 2/28/18.

Accession Number: 201802285275.

Comments/Protests Due: 5 p.m. ET 3/21/18.

Docket Numbers: RP16-864-000.

Applicants: Columbia Gas Transmission, LLC.

Description: Report Filing: Modernization II Settlement Payment Report.

Filed Date: 3/8/18.

Accession Number: 20180308-5049.

Comments Due: 5 p.m. ET 3/20/18.

Docket Numbers: RP17-977-000.

Applicants: Kinetica Energy Express, LLC.

Description: Motion Filing: Motion to Place Suspended Tariff Sheets into Effect to be effective 3/12/2018.

Filed Date: 3/9/18.

Accession Number: 20180309-5036.

Comments Due: 5 p.m. ET 3/21/18.

Docket Numbers: RP18-554-000.

Applicants: KO Transmission Company.

Description: § 4(d) Rate Filing: 2018 Transportation Retainage Adjustment Filing to be effective 4/1/2018.

Filed Date: 3/9/18.

Accession Number: 20180309-5037.

Comments Due: 5 p.m. ET 3/21/18.

Docket Numbers: RP18-555-000.

Applicants: Colorado Interstate Gas Company, L.L.C.

Description: § 4(d) Rate Filing: Non-Conforming Agreement Filing (Concord Mar 18) to be effective 3/1/2018.

Filed Date: 3/9/18.

Accession Number: 20180309-5066.

Comments Due: 5 p.m. ET 3/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2018.
Kimberly D. Bose,
Secretary.

[FR Doc. 2018-05490 Filed 3-16-18; 8:45 am]

BILLING CODE 6717-01-P